DEPARTMENT OF THE INTERIOR

Bureau of Land Management

[CA-190-04-1610-DS]

Notice of Extension of Comment Period for the Draft Resource Management Plan Amendment and Draft Environmental Impact Statement for the Clear Creek Management Area

AGENCY: Bureau of Land Management.

ACTION: Notice of Extension of Comment Period for the Draft Resource Management Plan Amendment and Draft Environmental Impact Statement (Draft RMP/Draft EIS) for the Clear Creek Management Area, Hollister Field Office, California.

SUMMARY: The Bureau of Land Management (BLM) announces an extension of the comment period on the Draft RMP/Draft EIS for the Clear Creek Management Area. The Original Notice of Availability issued July 19, 2004 (69FR43011) provided for a comment period to end on October 15, 2004. BLM is extending the comment period to November 15, 2004 to allow agencies and the public additional time to provide comments on the Draft RMP/Draft EIS.

DATES: Comments on the Draft RMP/Draft EIS must be received no later than November 15, 2004 at the address listed below.

ADDRESSES: Written comments should be sent to CCMA RMP Team, Bureau of Land Management, Hollister Field Office, 20 Hamilton Court, Hollister, CA 95023. Comments may also be sent by e-mail to Lesly_Smith@ca.blm.gov.

FOR FURTHER INFORMATION CONTACT: George E. Hill, Assistant Field Manager, at the above address, telephone number (831) 630-5036, or e-mail; George_Hill@ca.blm.gov.

Dated: October 1, 2004.
Robert E. Beehler,
Field Office Manager, Hollister Field Office.

[FR Doc. 04-23662 Filed 10-21-04; 8:45 am]

BILLING CODE 4310-40-M